DEPARTMENT OF ENERGY

Federal Energy Regulatory Commission

[Docket No. RP00-477-000]

Tennessee Gas Pipeline Co.; Notice of Technical Conference

October 5, 2000.

On August 15, 2000, Tennessee Gas Pipeline Company (Tennessee) submitted a filing to comply with Order No. 637. Several parties have protested various aspects of Tennessee's filing.

Take notice that a technical conference to discuss the various issues raised by Tennessee's filing will be held on Tuesday, November 14, 2000, at 10:00 am, in a room to be designated at the offices of the Federal Energy Regulatory Commission, 888 First Street, NE, Washington, D.C. 20426. Parties protesting aspects of Tennessee's filing should be prepared to discuss alternatives.

All interested persons and Staff are permitted to attend.

Linwood A. Watson, Jr.,
Acting Secretary.

[FR Doc. 00-26128 Filed 10-11-00; 8:45 am]

BILLING CODE 6717-01-M